DEPARTMENT OF THE INTERIOR

Fish and Wildlife Service

Notice of Intent To Prepare Comprehensive Conservation Plan and Environmental Impact Statement for the Great Dismal Swamp National Wildlife Refuge

SUMMARY: This amends the previous Notice of Intent published October 9, 2001. This notice advises the public that the U.S. Fish and Wildlife Service (Service) intends to gather information necessary to prepare a Comprehensive Conservation Plan (CCP) and Environmental Impact Statement (EIS) pursuant to the National Environmental Policy Act (NEPA) of 1969, and its implementing regulations. A CCP will be prepared for the Great Dismal Swamp National Wildlife Refuge (NWR) located in Suffolk and Chesapeake, Virginia and Gates and Camden Counties, North Carolina and the Nansemond Refuge Unit located within the City of Suffolk, Virginia. A Wilderness Review of Great Dismal Swamp NWR will also be completed concurrently in accordance with the Wilderness Act of 1964, as amended and Refuge Planning policy 602 FW Chapters 1, 2, and 3. The Service is furnishing this notice in compliance with the National Wildlife Refuge System Administration Act of 1966, as amended (16 U.S.C. 668dd et seq.): (1) To advise other agencies and the public of our intentions, and (2) to obtain suggestions and information on the scope of issues to include in the EIS. Times and dates for public scoping meetings are identified below and will remain the same as those published in the previous notice.

DATES: Please submit comments on the Draft CCP and EIS on or before March 1, 2002.

ADDRESSES: Please submit comments on the Draft CCP and EIS to Refuge Manager, Great Dismal Swamp National Wildlife Refuge, PO Box 349, Suffolk, VA 23439-0349.

FOR MORE INFORMATION CONTACT: Refuge Manager, Great Dismal Swamp National Wildlife Refuge, PO Box 349, Suffolk, VA 23439-0349 at 757-986-3706.

SUPPLEMENTARY INFORMATION: By Federal law, all lands within the National Wildlife Refuge System are to be managed in accordance with an approved CCP. The CCP guides management decisions and identifies refuge goals, long-range objectives, and strategies for achieving refuges' purposes. The planning process will consider many elements including habitat and wildlife management, habitat protection and acquisition, public uses, and cultural resources. Public input into this planning process is essential. The CCP will provide other agencies and the public with a clear understanding of the desired conditions for the refuges and how the Service will impact management strategies. The Service will solicit public input via open houses, public meetings, workshops, and written comments. Special mailings, newspaper articles, and announcements will inform people of the time and place of such opportunities for public input to the CCP. The Great Dismal Swamp NWR encompasses some 109,000 acres of marshes, wooded wetlands/swamps, and open water. Comments on the protection of threatened and endangered species and migratory birds and the protection and management of their habitat will be solicited as part of the planning process. A Draft CCP and Draft EIS are planned for public review by December 2002. Review of the project will be conducted in accordance with the requirements of NEPA, as amended (42 U.S.C. 4321 et seq.), NEPA Regulations (40 CFR parts 1500-1508), other appropriate Federal laws and regulations, and Service policies and procedures for compliance with those regulations.

Dated: December 6, 2001.
Richard O. Bennett,
Acting Regional Director, U.S. Fish and Wildlife Service, Hadley, Massachusetts.

[FR Doc. 02-2088 Filed 1-31-02; 8:45 am]

BILLING CODE 4310-55-P